INTERNATIONAL TRADE COMMISSION

[Investigation Nos. 701-TA-458 and 731-TA-1154 (Second Review)]

Kitchen Appliance Shelving and Racks From China

Determinations

On the basis of the record ¹ developed in the subject five-year reviews, the United States International Trade Commission (“Commission”) determines, pursuant to the Tariff Act of 1930 (“the Act”), that revocation of the antidumping and countervailing duty orders on kitchen appliance shelving and racks from China would be likely to lead to continuation or recurrence of material injury to an industry in the United States within a reasonably foreseeable time.

¹ The record is defined in § 207.2(f) of the Commission's Rules of Practice and Procedure (19 CFR 207.2(f)).

Background

The Commission instituted these reviews on February 3, 2020 (85 FR 5980) and determined on May 8, 2020 that it would conduct expedited reviews (85 FR 55321, September 4, 2020).

The Commission made these determinations pursuant to section 751(c) of the Act (19 U.S.C. 1675(c)). It completed and filed its determinations in these reviews on September 30, 2020. The views of the Commission are contained in USITC Publication 5123 (September 2020), entitled Kitchen Appliance Shelving and Racks from China: Investigation Nos. 701-TA-458 and 731-TA-1154 (Second Review).

By order of the Commission.
Issued: September 30, 2020.
Lisa Barton,
Secretary to the Commission.

[FR Doc. 2020-22006 Filed 10-5-20; 8:45 am]

BILLING CODE 7020-02-P